DEPARTMENT OF LABOR

Employment and Training Administration

[TA-W-54,814, et al.]

Alyeska Pipeline Service Company: Anchorage Support Personnel, Anchorage, AK, et al.; Notice of Termination of Investigation

Pursuant to section 221 of the Trade Act of 1974, as amended, an investigation was initiated on April 30, 2004, in response to a worker petition filed by a company official on behalf of workers at Alyeska Pipeline Service Company, Anchorage Support Personnel, Anchorage, Alaska (TA-W-54,814); Alyeska Pipeline Service Company, Fairbanks Support Personnel, Fairbanks, Alaska (TA-W-54,814A); and Alyeska Pipeline Service Company, Pipeline Operations Personnel, Fairbanks, Alaska (TA-W-54,814B).

The petitioner has requested that the petition be withdrawn. Consequently, the investigation has been terminated.

Signed at Washington, DC, this 17th day of May, 2004.
Richard Church,
Certifying Officer, Division of Trade Adjustment Assistance.

[FR Doc. 04-12632 Filed 6-3-04; 8:45 am]

BILLING CODE 4510-30-P